FEDERAL MINE SAFETY AND HEALTH REVIEW COMMISSION

Sunshine Act Meeting

March 10, 2005.

TIME AND DATE: 10 a.m., Thursday, March 17, 2005.

PLACE: The Richard V. Backley Hearing Room, 9th Floor, 601 New Jersey Avenue, NW., Washington, DC.

STATUS: Open.

MATTERS TO BE CONSIDERED: The Commission will consider and act upon the following in open session: Secretary of Labor v. Georges Colliers, Inc., Docket No. EAJ 2002-2. (Issues include whether the administrative law judge properly denied fees and expenses to Georges Colliers, Inc. under the Equal Access to Justice Act, 5 U.S.C. 504 et seq.)

Any person attending this meeting who requires special accessibility features and/or auxiliary aids, such as sign language interpreters, must inform the Commission in advance of those needs, subject to 29 CFR 2706.150(a)(3) and 2706.160(d).

CONTACT PERSON FOR MORE INFORMATION: Jean Ellen, (202)434-9950/(202) 708-9300 for TDD Relay/1-800-877-8339 for toll free.

Jean H. Ellen,
Chief Docket Clerk.

[FR Doc. 05-5637 Filed 3-17-05; 2:17 pm]

BILLING CODE 6735-01-M